DEPARTMENT OF ENERGY

Proposed Subsequent Arrangement

AGENCY: Office of Nonproliferation and International Security, Department of Energy.

ACTION: Proposed subsequent arrangement.

SUMMARY: This notice is being issued under the authority of section 131a. of the Atomic Energy Act of 1954, as amended. The Department is providing notice of a proposed subsequent arrangement under the Agreement for Cooperation in the Peaceful Uses of Nuclear Energy Between the European Atomic Energy Community (EURATOM) and the United States of America and the Agreement for Cooperation between the Government of the United States of America and the Government of Norway Concerning Peaceful Uses of Nuclear Energy.

DATES: This subsequent arrangement will take effect no sooner than January 31, 2014.

FOR FURTHER INFORMATION CONTACT: Ms. Katie Strangis, Office of Nonproliferation and International Security, National Nuclear Security Administration, Department of Energy. Telephone: 202-586-8623 or email: Katie.Strangis@nnsa.doe.gov.

SUPPLEMENTARY INFORMATION: This subsequent arrangement concerns a request for a three-year extension (April 2014 to April 2017) of the current programmatic approval for retransfer of U.S.-obligated irradiated fuel rods between Studsvik Nuclear AB, Sweden, and Institutt for Energiteknikk, IFE facilities Halden and Kjeller, Norway. The rods are being transferred for irradiation service, various tests and examinations, and will be returned to Studsvik Nuclear, Sweden for further test and final disposal. The total shipping amounts will be the same as allowed under the current approval—a maximum of 30,000 grams uranium, 400 grams U-235 and 400 grams plutonium in all shipments, combined, with a maximum of 100 grams of plutonium per shipment.

The current extension was approved in April 2011 and published in the Federal Register on March 29, 2011, (76 FR 17406) and is set to expire April 2014. If approved, the new extension, for three years, will extend to April 2017. Additional transactions are scheduled to occur between April 2014 and April 2017 and will be subject to the U.S.-EURATOM Agreement for Cooperation in the Peaceful Uses of Nuclear Energy.

In accordance with section 131a. of the Atomic Energy Act of 1954, as amended, it has been determined that this subsequent arrangement concerning the retransfer of nuclear material of United States origin will not be inimical to the common defense and security of the United States of America.

Dated: December 17, 2013.
For the Department of Energy.
Anne M. Harrington,
Deputy Administrator, Defense Nuclear Nonproliferation.

[FR Doc. 2014-00754 Filed 1-15-14; 8:45 am]

BILLING CODE 6450-01-P